DEPARTMENT OF COMMERCE

Foreign-Trade Zones Board

[S-112-2024]

Foreign-Trade Zone 214; Application for Subzone Expansion; Consolidated Diesel Company; Whitakers, North Carolina; Correction

The Federal Register notice published on July 8, 2024 (89 FR 55914) regarding the subzone expansion application for Consolidated Diesel Company, located in Whitakers, North Carolina, is corrected as follows:

In the title of the notice, the company name should read “Consolidated Diesel Company”.

For further information, contact Christopher Kemp at Christopher.Kemp@trade.gov.

Dated: July 22, 2024.
Camille R. Evans,
Acting Executive Secretary.

[FR Doc. 2024-16393 Filed 7-24-24; 8:45 am]

BILLING CODE 3510-DS-P